DEPARTMENT OF STATE

[Public Notice 8120]

Posting of Pamphlet Provided for in the International Marriage Broker Regulation Act

ACTION: Notice of posting of pamphlet provided for in section 833(a) of the International Marriage Broker Regulation Act, Title D of Public Law 109-162.

SUMMARY: Section 833(a) of the International Marriage Broker Regulation Act, Title D of Public Law 109-162, provided that the Secretary of Homeland Security, in consultation with the Attorney General and the Secretary of State, develop an information pamphlet on legal rights and resources for immigrants who are victims of domestic violence. That section further provided that such pamphlet be posted on the Web sites of the Department of State and all consular posts processing applications for K (fiancé(e) or spouse of U.S. citizen) visas. This notice announces that this pamphlet is posted on the Web site of the Bureau of Consular Affairs of the Department of State at: http://travel.state.gov/visa/temp/pamphlet/pamphlet_5725.html.

DATES: The pamphlet was posted on November 8, 2012.

FOR FURTHER INFORMATION CONTACT: Paul-Anthony L. Magadia, Legislation and Regulations Division, Visa Services, Bureau of Consular Affairs, Department of State, Washington, DC 20520-0106. (202) 663-3969, email: magadiapl@state.gov.

SUPPLEMENTARY INFORMATION: Section 833(a)(1) of the International Marriage Broker Regulation Act (“IMBRA”), Title D of Public Law 109-162, provided that the Secretary of Homeland Security, in consultation with the Attorney General and the Secretary of State, develop an information pamphlet on legal rights and resources for immigrants who are victims of domestic violence. Section 833(a)(5)(C) of IMBRA provided that such pamphlet be posted on the Web sites of the Department of State and all consular posts processing applications for K visas. IMBRA section 833(a)(4) directed that the Secretary of State translate the pamphlet into foreign languages, including Russian, Spanish, Tagalog, Vietnamese, Chinese, Ukrainian, Thai, Korean, Polish, Japanese, French, Arabic, Portuguese, and Hindi, and any other languages that the Secretary, in her discretion, may specify. The Secretary of Homeland Security completed this pamphlet, and the Secretary of State had it translated into the foregoing 14 languages. The Department of State has posted the pamphlet, in English and those 14 languages, online at http://travel.state.gov/visa/temp/pamphlet/pamphlet_5725.html. To make the pamphlet publicly available through consular posts, the Department of State has instructed U.S. embassies and consulates worldwide to establish a link to the Department's posting by November 21, 2012. By posting the pamphlet online, the Department is also making it available to any international marriage broker, government agency, or nongovernmental advocacy organization, pursuant to IMBRA section 833(a)(5)(D).

Dated: November 28, 2012.
Janice L. Jacobs,
Assistant Secretary, Bureau of Consular Affairs, Department of State.

[FR Doc. 2012-30231 Filed 12-13-12; 8:45 am]

BILLING CODE 4710-06-P